ENVIRONMENTAL PROTECTION AGENCY

[ER-FRL-8593-6]

Environmental Impact Statements; Notice of Availability

Responsible Agency: Office of Federal Activities, General Information (202) 564-1399 or http://www.epa.gov/compliance/nepa/.

Weekly receipt of Environmental Impact Statements

Filed ??? Through ???

Pursuant to 40 CFR 1506.9.

EIS No. 20090153, Final EIS, AFS, MT, Grizzly Vegetation and Transportation Management Project, Proposes Timber Harvest, Prescribed Burning, Road Maintenance, and Transportation Management Actions, Three Rivers Ranger District, Kootenai National Forest, Lincoln County, MT, Wait Period Ends: 06/22/2009, Contact: Kathy Mohar 406-295-4693.

EIS No. 20090154, Draft EIS, NPS, AL, Tuskegee Airmen National Historic Site, General Management Plan, Implementation, Tuskegee, AL, Comment Period Ends: 07/20/2009, Contact: Amy Wirsching 404-507-5708.

EIS No. 20090155, Draft EIS, BIA, NY, Cayuga Indian Nation of New York Conveyance of Land into Trust Project, Approval of a 125+ Acre Fee-To-Trust Property Transfer of Seven Separate Parcels located in the Village of Union Springs and Town of Springport and Montezuma in Cayuga County and the Town of Seneca Falls in Seneca County, NY, Comment Period Ends: 07/06/2009, Contact: Kurt G. Chandler 615-564-6832.

EIS No. 20090156, Draft EIS, NIH, MD, National Institutes of Health (NIH), Transport of Laboratory Personnel Potentially Exposed to Infectious Agents from Fort Detrick, Frederick, MD to the National Institutes of Health Clinical Center, Bethesda, MD, Comment Period Ends: 07/24/2009, Contact: Mark Radtke 301-451-6467.

EIS No. 20090157, Draft EIS, AFS, WY, Upper Greys Vegetation Management Project, Proposes to Conduct Timber Harvest on 362 Acres in Upper Greys River Watershed, Greys River Ranger District, Bridger-Teton National Forest, Lincoln County, WY, Comment Period Ends: 07/06/2009, Contact: Heidi Whitlach 307-886-5305.

EIS No. 20090158, Final EIS, FHW, IL, Illinois Route 29 (FAP 318) Corridor Study, Transportation Improvement from Illinois 6 to Interstate 180, Funding and US Army COE Section 404 Permit, Peoria, Marshall, Putnam and Bureau Counties, IL, Wait Period Ends: 06/22/2009, Contact: Matt Fuller 217-492-4625.

EIS No. 20090159, Draft EIS, FHW, NC, Gaston East-West Connector Project, Construction (from I-85 west Gastonia to I-485/NC 160 near the Charlotte-Douglas International Airport, Gaston and Mecklenburg Counties, NC, Comment Period Ends: 07/17/2009, Contact: John F. Sullivan 919-856-4346.

EIS No. 20090160, Draft EIS, AFS, MN, Border Project, Proposing Forest Vegetation Management and Related Transportation System Activities, LaCroix Ranger District, Superior National Forest, St. Louis County, MN, Comment Period Ends: 07/06/2009, Contact: Carol Booth 218-666-0054.

EIS No. 20090161, Draft EIS, AFS, MT, Marsh and Tarhead Allotment Management Plans, Proposes to Authorize Grazing of Livestock under 10-Year Permits, Lincoln Ranger District, Helena National Forest, Lewis and Clark County, MT, Comment Period Ends: 07/06/2009, Contact: Amber Kamps 406-362-7002.

EIS No. 20090162, Final EIS, SFW, CA, Cullinan Ranch Unit Restoration Project, Proposing a Restoration Plan for 1,500 Acres of Former Hayfield Farm Land, San Pablo Bay, Issuance of Permits and/or Approval from Section 7 Endangered Species Act and U.S. Army COE Section 404 Permit, San Pablo Bay National Wildlife Refuge, Solano and Napa Counties, CA, Wait Period Ends: 06/22/2009, Contact: Christy Smith 707-769-4200.

EIS No. 20090163, Final EIS, NPS, SD, Minuteman Missile National Historic Site, General Management Plan, Implementation, Jackson and Pennington Counties, SD, Wait Period Ends: 06/22/2009, Contact: Nick Chevance 402-661-1844.

EIS No. 20090164, Draft EIS, FRC, ME, Downeast Liquefied Natural Gas (LNG) Project, Construction and Operation, Proposed Liquefied Natural Gas (LNG) Terminal, Natural Gas Pipeline and Associated Facilities, Washington County, ME, Comment Period Ends: 07/06/2009, Contact: Patricia Schaub 1-866-208-3372.

EIS No. 20090165, Final EIS, AFS, UT, Dixie National Forest Motorized Travel Plan, Implementation, Dixie National and the Teasdale portion of the Fremont River Ranger District on the Fishlake National Forest, Garfield, Iron, Kane, Piute, Washington and Wayne Counties, UT, Wait Period Ends: 06/22/2009, Contact: Andi Falsetto 435-896-9233.

EIS No. 20090166, Draft Supplement, COE, LA, Calcasieu River and Pass, Louisiana Dredged Material Management Plan, Implementation, Calcasieu Ship Channel, Port of Lake Charles, Calcasieu and Cameron Parishes, LA, Wait Period Ends: 07/06/2009, Contact: Sandra Stiles 504-862-1583.

EIS No. 20090167, Final EIS, FAA, AK, Sitka Rocky Gutierrez Airport Master Plan, Improvements to the Runway Safety Area, Taxiway, Seaplane Pullout, Approach Lighting System, and the Seawall, U.S. Army COE Section 10 and 404 Permits, NPDES Permit, AK, Wait Period Ends: 06/22/2009, Contact: Patricia Sullivan 907-271-5454.

Amended Notices

EIS No. 20090048, Draft EIS, AFS, MT, Montanore Project, Proposes to Construct a Copper and Silver Underground Mine and Associated Facilities, Including a New Transmission Line, Plan-of-Operation Permit, Kootenai National Forest, Sanders County, MT, Wait Period Ends: 07/27/2009, Contact: Bobbie Lacklen 406-283-7681. Revision to FR Notice Published 02/27/2009: Extending Comment Period from 05/28/2009 to 07/27/2009.

EIS No. 20090123, Draft EIS, FHW, MS, Greenville Connector Project, from Relocated U.S. 82 to Proposed I-69 Corridor south of Benoit, City of Greenville, Washington and Bolivar Counties, MS, Wait Period Ends: 07/06/2009, Contact: Andrew Hughes, P.E. 601-965-4217. Revision of FR Notice Published 04/24/2009: Extending Comment Period from 06/08/2009 to 07/06/2009.

Dated: May 19, 2009.
Ken Mittelholtz,
Environmental Protection Specialist, Office of Federal Activities.

[FR Doc. E9-12012 Filed 5-21-09; 8:45 am]

BILLING CODE 6560-50-P